SECURITIES AND EXCHANGE COMMISSION

Sunshine Act Meeting

Notice is hereby given, pursuant to the provisions of the Government in the Sunshine Act, Public Law 94-409, that the Securities and Exchange Commission will hold a Roundtable on Execution, Clearance and Settlement of Microcap Securities on Monday, October 17, 2011, commencing at 1 p.m.

This Sunshine Act notice is being issued because a majority of the Commission may attend the meeting.

The Roundtable will take place in the Multi-Purpose Room of the Commission's headquarters at 100 F Street, NE., Washington DC. The Roundtable will be open to the public with seating on a first-come, first-served basis. Doors will open at 12:30 p.m. Visitors will be subject to security checks.

The Roundtable will consist of a series of three panels. Panelists will consider a range of microcap securities topics, such as the current issues facing small cap issuers in the clearance and settlement process, potential regulatory changes impacting the Over-The-Counter markets, and Anti-Money laundering concerns specific to microcap issuers.

For further information, please contact the Office of the Secretary at (202) 551-5400.

October 7, 2011.
Elizabeth M. Murphy,
Secretary.

[FR Doc. 2011-26513 Filed 10-7-11; 4:15 pm]

BILLING CODE 8011-01-P